DEPARTMENT OF ENERGY

DEPARTMENT OF THE INTERIOR

Notice of Intent To Prepare a Programmatic Environmental Impact Statement, Amend Relevant Agency Land Use Plans, Conduct Public Scoping Meetings, and Notice of Floodplain and Wetlands Involvement

AGENCIES: Office of Electricity Delivery and Energy Reliability, Department of Energy (DOE) and the Bureau of Land Management (BLM), Department of the Interior (DOI).

ACTION: Notice of intent to prepare a programmatic environmental impact statement, amend relevant agency land use plans, conduct public scoping meetings, and notice of floodplain and wetlands involvement.

SUMMARY: Section 368 of the Energy Policy Act of 2005 (the Act), Public Law 109-58 (H.R. 6), enacted August 8, 2005, directs the Secretaries of Agriculture, Commerce, Defense, Energy, and the Interior (the Agencies) to designate under their respective authorities corridors on Federal land in the 11 Western States for oil, gas and hydrogen pipelines and electricity transmission and distribution facilities (energy corridors). The Agencies have determined that designating corridors as required by Section 368 of the Act constitutes a major Federal action which may have a significant impact upon the environment within the meaning of the National Environmental Policy Act of 1969 (NEPA). For this reason, the Agencies intend to prepare a programmatic environmental impact statement (PEIS) entitled, “Designation of Energy Corridors on Federal Land in the 11 Western States” (DOE/EIS-0386) to address the environmental impacts from the proposed action and the range of reasonable alternatives. DOE and BLM will be co-lead agencies for this effort, with the Department of Agriculture's Forest Service (FS) participating as a cooperating agency.

The purpose of this Notice of Intent is to inform the public about the proposed action, announce plans to conduct 11 public scoping meetings, invite public participation in the scoping process, and solicit public comments for consideration in establishing the scope and content of the PEIS. Because the proposed action may involve actions in a floodplain or wetland, the draft PEIS will include a floodplain and wetlands assessment and the final PEIS or Record of Decision will include a floodplain statement of findings.

The Agencies will prepare the PEIS in accordance with NEPA, the Council on Environmental Quality (CEQ) regulations, 40 CFR 1500-1508, DOE's regulations developed pursuant to NEPA, 10 CFR 1021, BLM's planning regulations 43 CFR 1600 and applicable FS planning regulations to amend land use plans.

DATES: The Agencies invite interested agencies, states, organizations, Native American tribes, and members of the public to submit comments or suggestions to assist in identifying significant environmental issues and in determining the scope of this PEIS. The public scoping period starts with the publication of this notice in the Federal Register and will continue until November 28, 2005. Written and oral comments will be given equal weight, and the Agencies will consider all comments received or postmarked by November 28, 2005 in defining the scope of this PEIS. Comments received or postmarked after that date will be considered to the extent practicable.

Dates for the public scoping meetings are:

1. October 25, 2005, Denver, Colorado

2. October 26, 2005, Albuquerque, New Mexico

3. October 26, 2005, Salt Lake City, Utah

4. October 27, 2005, Cheyenne, Wyoming

5. October 27, 2005, Helena, Montana

6. November 1, 2005, Boise, Idaho

7. November 1, 2005, Sacramento, California

8. November 2, 2005, Las Vegas, Nevada

9. November 2, 2005, Portland, Oregon

10. November 3, 2005, Phoenix, Arizona

11. November 3, 2005, Seattle, Washington

The Agencies will announce the times and locations of the public meetings through the local media, newsletters, and the project Web site (http://corridoreis.anl.gov) at least 15 days prior to the meeting.

Requests to speak at a public scoping meeting(s) should be received by Julia Souder at the addresses indicated below on or before October 18, 2005. Requests to speak may also be made at the time of registration for the scoping meeting(s). However, persons who submitted advance requests to speak will be given priority if time should be limited during the meetings.

ADDRESSES: Comments or suggestions on the scope of the PEIS and requests to speak at the scoping meeting(s) should be sent to: Julia Souder by mail at U.S. Department of Energy, Office of Electricity Delivery and Energy Reliability, 1000 Independence Avenue, SW., Washington, DC 20585; by facsimile at (202) 586-1472 or phone at (202) 586-9052.

Please note that regular postal mail to DOE tends to be delayed because of anthrax screening. In order to avoid these delays, if you wish to comment or request to speak at the scoping meeting(s) by mail, we suggest that your submission be sent by using overnight service, or that your letter first be sent to us by facsimile or electronic mail, and then followed by regular mailing of the original documents.

FOR FURTHER INFORMATION CONTACT: For information on the proposed project or to receive a copy of the Draft PEIS when it is issued, contact Julia Souder by any of the means indicated in the ADDRESSES section of this notice. A complete description of the proposed action also may be found on the project Web site at http://corridoreis.anl.gov.

For general information on the DOE NEPA process please contact: Carol M. Borgstrom, Director, Office of NEPA Policy and Compliance (EH-42), U.S. Department of Energy, 1000 Independence Avenue, SW., Washington, DC 20585-0119, Phone: 202-586-4600; or leave a message at 1-800-472-2756; Facsimile: 202-586-7031.

SUPPLEMENTARY INFORMATION:

Background and Need for Agency Action

Section 368 of the Act, entitled “Energy Right-of-Way Corridors on Federal Land,” and specifically subsection 368(d) require the Agencies to designate energy corridors, taking into account the “need for upgraded and new electricity transmission and distribution facilities” in order to “improve reliability,” “relieve congestion,” and “enhance the capability of the national grid to deliver electricity.” See Electricity Modernization Act, Pub. L. 109-58 (H.R. 6) section 368(d)(1)-(3). Section 368 applies only to Federal lands.

Specifically, Section 368 requires the Agencies to cooperate using their respective authorities to (1) “designate corridors for oil, gas, and hydrogen pipelines and electricity transmission and distribution facilities on Federal land in the eleven contiguous Western States (as defined in Section 103(o) of the Federal Land Policy and Management Act of 1976 (43 U.S.C. 1702(o)); (2) perform any environmental reviews that may be required to complete the designations of such corridors; and (3) incorporate the designated corridors into the relevant agency land use and resource management plans or equivalent plans”. See Pub. L. 109-59 § 368(a)(1)-(3).

Section 368 divides the Agencies' schedules for designating transmission corridors on public lands into two groups: (1) “Western States”, consisting of Arizona, California, Colorado, Idaho, Montana, Nevada, New Mexico, Oregon, Utah, Washington, and Wyoming; and (2) all other states. This PEIS relates solely to corridors in the Western States.

Proposed Action and Alternatives

The Proposed Action in this PEIS is to designate corridors on Federal land in the eleven Western States for oil, gas and hydrogen pipelines and electricity transmission and distribution facilities. Based upon the information and analyses developed in this PEIS, each Agency would amend its respective land use plans by designating a series of energy corridors effective upon signing of the Record(s) of Decision.

No Action Alternative

Under the No Action alternative, no new energy corridors would be designated through this coordinated approach. The No Action alternative will identify the environmental impacts associated with each of the Agencies continuing to designate energy corridors through use of their present practices. These practices would include the application of local planning criteria by each regional land management office.

Increased Utilization Alternative

Under the Increased Utilization alternative, the Agencies will assess the environmental impacts associated with increasing the capacity of existing energy corridors through the application of new technologies and/or operational techniques. This alternative will assesss the impacts of developing multiple projects within existing corridors and rights-of-way and the application of new technologies to increase the energy capacities of existing facilities within those corridors.

New Corridor Alternative

Under the New Corridor alternative, the Agencies will assess the impacts associated with designating new energy corridors on Federal land. A preliminary set of new corridors will be identified through information obtained through scoping as well as information from the energy transport industry including, but not limited to: The Western Utility Group; the Seams Steering Group—Western Interconnection; Colorado Coordinating Planning Group; the Northwest Transmission Assessment Committee; the Southwest Area Transmission Study; the Southwest Transmission Expansion Plan; and the Rocky Mountain Area Transmission Study. The scoping process will afford other stakeholders such as environmental groups, counties, states, Native American tribes, and interested citizens an opportunity to propose new corridors. The Agencies will use this information to identify new energy corridors that will be analyzed in the PEIS.

Optimization Criteria Alternative

Under the Optimization Criteria alternative, the Agencies will assess the impacts of new energy corridors that will be identified through a combination of new and existing corridors based on a set of criteria and strategies that incorporate environmental concerns, projected supply and demand, network efficiencies, landscape features, the availability of new technologies, and costs.

The Agencies will consider any additional reasonable alternatives that result from comments received in response to the scoping process described in this notice.

Identification of Environmental Issues

Note that environmental issues identified should be related to: Restriction of conflicting uses within the corridors, adequacy of potential plan direction within the corridors, any identifiable environmental concerns within the potential corridors. Any corridor designation, and subsequent incorporation into an agencies land use plan by this plan amendment process does not, itself, authorize project activities. Any new proposed project activities, such as construction of a new pipeline or electric transmission line or retrofitting utilities within an existing corridor, would be analyzed in subsequent NEPA analyses which would also involve public notice and comment. This PEIS is for corridor designation only.

The purpose of this notice is to solicit comments and suggestions for consideration in the preparation of the PEIS. As background for public comment, this notice contains a list of potential environmental issues that the Agencies have tentatively identified for analysis. This list is not intended to be all-inclusive or to imply any predetermination of impacts. Following is a preliminary list of issues that may be analyzed in the PEIS:

(1) Socioeconomic and recreational impacts of development of the land tracts and their subsequent uses;

(2) Impacts on protected, threatened, endangered, or sensitive species of animals or plants, or their critical habitats;

(3) Impacts on floodplains and wetlands;

(4) Impacts on archaeological, cultural, or historic resources;

(5) Impacts on human health and safety;

(6) Impacts on existing and future land uses;

(7) Visual impacts; and

(8) Disproportionately high and adverse impacts on minority and low-income populations, also known as environmental justice considerations.

Scoping Process

Interested parties are invited to participate in the scoping process, both to refine the preliminary alternatives and environmental issues to be analyzed in depth and to eliminate from detailed study those alternatives and environmental issues that are not feasible or pertinent. The scoping process is intended to involve all interested agencies (Federal, State, county, and local), public interest groups, Native American tribes, businesses, and members of the public. Public scoping meetings will be held as indicated above under the DATES and ADDRESSES sections. These scoping meetings will be informal. The presiding officer will establish only those procedures needed to ensure that everyone who wishes to speak has a chance to do so and that the Agencies understand all issues and comments. Speakers will be allocated approximately 5 minutes for their oral statements. Depending upon the number of persons wishing to speak, the presiding officer may allow longer times for representatives of organizations. Consequently, persons wishing to speak on behalf of an organization should identify that organization in their request to speak. Persons who have not submitted a request to speak in advance may register to speak at the scoping meeting(s), but advance requests are encouraged. Meetings will begin at the times specified and will continue until all those present who wish to participate have had an opportunity to do so. Should any speaker desire to provide for the record further information that cannot be presented within the designated time, such additional information may be submitted in writing by the date listed in the DATES section.

Oral, written, and electronic (i.e., by facsimile or by e-mail) comments will be impartially considered and given equal weight by the Agencies.

A complete transcript of the public scoping meetings will be retained by the Agencies and made available to the public for review on the DOE Web site at http://www.electricity.doe.gov, on the project Web site at http://corridoreis.anl.gov, and during business hours at the Department of Energy, Freedom of Information Reading Room, Forrestal Building, 1000 Independence Avenue, SW., Washington, DC.

Draft PEIS Schedule and Availability

The Draft PEIS is scheduled to be issued in early spring 2006. The availability of the Draft PEIS and dates for public hearings soliciting comments on it will be announced in the Federal Register and local media. Comments on the Draft PEIS will be considered in preparing the Final PEIS.

Those interested parties who do not wish to submit comments at this time, but who would like to receive a copy of the Draft PEIS and other project materials, please contact Julia Souder as provided in the ADDRESSES section of this notice.

Tom Lonnie,
Assistant Director, Minerals, Realty and Resource Protection, Bureau of Land Management.
John Spitaleri Shaw,
Assistant Secretary for Environment, Safety and Health, Department of Energy.

[FR Doc. 05-19375 Filed 9-27-05; 8:45 am]

BILLING CODE 6450-01-P